DEPARTMENT OF HOMELAND SECURITY

Federal Emergency Management Agency

[Docket ID FEMA-2021-0002; Internal Agency Docket No. FEMA-B-2171]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado:
Larimer | Town of Johnstown, (21-08-0288P). | Mr. Matt LeCerf, Manager, Town of Johnstown, 450 South Parish Avenue, Johnstown, CO 80534. | Planning and Development Department, 450 South Parish Avenue, Johnstown, CO 80534. | https://msc.fema.gov/portal/advanceSearch. | Dec. 27, 2021 | 080250
Larimer | Unincorporated areas of Larimer County, (21-08-0288P). | The Honorable John Kefalas, Chairman, Larimer County Board of Commissioners, 200 West Oak Street, Suite 2200, Fort Collins, CO 80521. | Larimer County Engineering Department, 200 West Oak Street, Suite 3000, Fort Collins, CO 80521. | https://msc.fema.gov/portal/advanceSearch. | Dec. 27, 2021 | 080101
Connecticut: New Haven | Town of Guilford, (21-01-0936P). | The Honorable Matthew T. Hoey, III, First Selectman, Town of Guilford Board of Selectmen, 31 Park Street, Guilford, CT 06437. | Engineering Department, 50 Boston Street, Guilford, CT 06437. | https://msc.fema.gov/portal/advanceSearch. | Dec. 17, 2021 | 090077
Florida:
Charlotte | Unincorporated areas of Charlotte County, (21-04-5021P). | The Honorable Bill Truex, Chairman, Charlotte County Board of Commissioners, 18500 Murdock Circle, Suite 536, Port Charlotte, FL 33948. | Charlotte County Community Development Department, 18400 Murdock Circle, Port Charlotte, FL 33948. | https://msc.fema.gov/portal/advanceSearch. | Jan. 10, 2022 | 120061
Miami-Dade | City of Doral, (21-04-2105P). | The Honorable Juan Carlos Bermudez, Mayor, City of Doral, 8401 Northwest 53rd Terrace, Doral, FL 33166. | Building Department, 8401 Northwest 53rd Terrace, Doral, FL 33166. | https://msc.fema.gov/portal/advanceSearch. | Dec. 27, 2021 | 120041
Polk | Unincorporated areas of Polk County, (20-04-4035P). | Mr. Bill Beasley, Polk County Manager, 330 West Church Street, Bartow, FL 33831. | Polk County Floodplain Management Department, 330 West Church Street, Bartow, FL 33831. | https://msc.fema.gov/portal/advanceSearch. | Jan. 6, 2022 | 120261
Sarasota | Unincorporated areas of Sarasota County, (21-04-4167P). | The Honorable Alan Maio, Chairman, Sarasota County Board of Commissioners, 1660 Ringling Boulevard, Sarasota, FL 34236. | Sarasota County Planning and Development Services Department, 1001 Sarasota Center Boulevard, Sarasota, FL 34236. | https://msc.fema.gov/portal/advanceSearch. | Dec. 29, 2021 | 125144
Georgia: Richmond | City of Augusta, (21-04-3238X). | The Honorable Hardie Davis, Jr., Mayor, City of Augusta, 535 Telfair Street, Suite 200, Augusta, GA 30901. | Planning and Development Department, 535 Telfair Street, Suite 300, Augusta, GA 30901. | https://msc.fema.gov/portal/advanceSearch. | Dec. 27, 2021 | 130158
Kentucky: Jefferson | Louisville-Jefferson County Metro Government, (21-04-2298P). | The Honorable Greg Fischer, Mayor, Louisville-Jefferson County Metro Government, 527 West Jefferson Street, Louisville, KY 40202. | Louisville-Jefferson County Metropolitan Sewer District, 700 West Liberty Street, Louisville, KY 40203. | https://msc.fema.gov/portal/advanceSearch. | Jan. 3, 2022 | 210120
Louisiana:
Jefferson | City of Harahan, (20-06-2494P). | The Honorable Tim Baudier, Mayor, City of Harahan, 6437 Jefferson Highway, Harahan, LA 70123. | City Hall, 6437 Jefferson Highway, Harahan, LA 70123. | https://msc.fema.gov/portal/advanceSearch. | Dec. 29, 2021 | 225200
Jefferson | Unincorporated areas of Jefferson Parish, (20-06-2494P). | The Honorable Cynthia Lee Sheng, Jefferson Parish President, 1221 Elmwood Park Boulevard, 10th Floor, Jefferson, LA 70123. | Jefferson Parish Joseph S. Yenni Building, 1221 Elmwood Park Boulevard, Suite 310, Jefferson, LA 70123. | https://msc.fema.gov/portal/advanceSearch. | Dec. 29, 2021 | 225199
Maryland: Prince George's | City of Laurel, (21-03-0404P). | The Honorable Craig A. Moe, Mayor, City of Laurel, 8103 Sandy Spring Road, Laurel, MD 20707. | City Hall, 8103 Sandy Spring Road, Laurel, MD 20707. | https://msc.fema.gov/portal/advanceSearch. | Dec. 27, 2021 | 240053
Massachusetts: Barnstable | Town of Falmouth, (21-01-1047P). | The Honorable Douglas C. Brown, Chairman, Town of Falmouth Board of Selectmen, 59 Town Hall Square, Falmouth, MA 02540. | Inspectional Services Department, 59 Town Hall Square, Falmouth, MA 02540. | https://msc.fema.gov/portal/advanceSearch. | Jan. 10, 2022 | 255211
Montana: Lewis and Clark | Unincorporated areas of Lewis and Clark County, (21-08-0279P). | The Honorable Andy Hunthausen, Chairman, Lewis and Clark County Board of Commissioners, 316 North Park Avenue, Suite 345, Helena, MT 59623. | Lewis and Clark County Municipality Building, 316 North Park Avenue, Suite 230, Helena, MT 59623. | https://msc.fema.gov/portal/advanceSearch. | Dec. 20, 2021 | 300038
New Hampshire: Rockingham | Town of Salem, (21-01-0607P). | The Honorable Cathy A. Stacey, Chair, Town of Salem Board of Selectmen, 33 Geremonty Drive, Salem, NH 03079. | Town Hall, 33 Geremonty Drive, Salem, NH 03079. | https://msc.fema.gov/portal/advanceSearch. | Jan. 3, 2022 | 330142
North Dakota: Cass | City of Harwood, (21-08-0691X). | The Honorable Blake Hankey, Mayor, City of Harwood, 108 Main Street, Harwood, ND 58042. | City Hall, 108 Main Street, Harwood, ND 58042. | https://msc.fema.gov/portal/advanceSearch. | Dec. 2, 2021 | 380338
South Carolina:
Charleston | Town of Mount Pleasant, (21-04-3056P). | The Honorable Will Haynie, Mayor, Town of Mount Pleasant, 100 Ann Edwards Lane, Mount Pleasant, SC 29464. | Town Hall, 100 Ann Edwards Lane, Mount Pleasant, SC 29464. | https://msc.fema.gov/portal/advanceSearch. | Jan. 6, 2022 | 455417
Charleston | Unincorporated areas of Charleston County, (21-04-3056P). | The Honorable Teddie E. Pryor, Sr., Chairman, Charleston County Council, 4045 Bridge View Drive, North Charleston, SC 29405. | Charleston County Building Department, 4045 Bridge View Drive, North Charleston, SC 29405. | https://msc.fema.gov/portal/advanceSearch. | Jan. 6, 2022 | 455413
Texas:
Clay | City of Henrietta, (20-06-3454P). | The Honorable Roy Boswell, Mayor, City of Henrietta, 101 North Main Street, Henrietta, TX 76365. | City Hall, 101 North Main Street, Henrietta, TX 76365. | https://msc.fema.gov/portal/advanceSearch. | Dec. 17, 2021 | 480126
Clay | Unincorporated areas of Clay County, (20-06-3454P). | The Honorable Mike Campbell, Clay County Judge, P.O. Box 548, Henrietta, TX 76365. | County-City Municipal Building, 101 North Main Street, Henrietta, TX 76365. | https://msc.fema.gov/portal/advanceSearch. | Dec. 17, 2021 | 480742
Comal | City of New Braunfels, (21-06-0004P). | The Honorable Rusty Brockman, Mayor, City of New Braunfels, 550 Landa Street, New Braunfels, TX 78130. | City Hall, 550 Landa Street, New Braunfels, TX 78130. | https://msc.fema.gov/portal/advanceSearch. | Dec. 27, 2021 | 485493
Comal | Unincorporated areas of Comal County, (21-06-0004P). | The Honorable Sherman Krause, Comal County Judge, 100 Main Plaza, New Braunfels, TX 78130. | Comal County Engineering Department, 195 David Jonas Drive, New Braunfels, TX 78132. | https://msc.fema.gov/portal/advanceSearch. | Dec. 27, 2021 | 485463
Denton and Tarrant | City of Fort Worth, (21-06-1349P). | The Honorable Mattie Parker, Mayor, City of Fort Worth, 200 Texas Street, Fort Worth, TX 76102. | Transportation and Public Works Department, Engineering Vault, 200 Texas Street, Fort Worth, TX 76102. | https://msc.fema.gov/portal/advanceSearch. | Dec. 3, 2021 | 480596
Harris | Unincorporated areas of Harris County, (20-06-1514P). | The Honorable Lina Hidalgo, Harris County Judge, 1001 Preston Street, Suite 911, Houston, TX 77002. | Harris County Permit Office, 10555 Northwest Freeway, Suite 120, Houston, TX 77092. | https://msc.fema.gov/portal/advanceSearch. | Dec. 20, 2021 | 480287
Harris | Unincorporated areas of Harris County, (21-06-0685P). | The Honorable Lina Hidalgo, Harris County Judge, 1001 Preston Street, Suite 911, Houston, TX 77002. | Harris County Permit Office, 10555 Northwest Freeway, Suite 120, Houston, TX 77092. | https://msc.fema.gov/portal/advanceSearch. | Dec. 13, 2021 | 480287
Kendall | Unincorporated areas of Kendall County, (21-06-0592P). | The Honorable Darrel L. Lux, Kendall County Judge, 201 East San Antonio Avenue, Suite 122, Boerne, TX 78006. | Kendall County Courthouse, 201 East San Antonio Avenue, Suite 100, Boerne, TX 78006. | https://msc.fema.gov/portal/advanceSearch. | Nov. 17, 2021 | 480417
Midland | City of Midland, (21-06-2222P). | The Honorable Patrick Payton, Mayor, City of Midland, 300 North Loraine Street, Midland, TX 79701. | City Hall, 300 North Loraine Street, Midland, TX 79701. | https://msc.fema.gov/portal/advanceSearch. | Jan. 7, 2022 | 480477
Tarrant | City of Arlington, (20-06-3516P). | The Honorable Jim Ross, Mayor, City of Arlington, P.O. Box 90231, Arlington, TX 76004. | Public Works and Transportation Department, 101 West Abram Street, Arlington, TX 76010. | https://msc.fema.gov/portal/advanceSearch. | Dec. 3, 2021 | 485454
Tarrant | City of Fort Worth, (20-06-3516P). | The Honorable Mattie Parker, Mayor, City of Fort Worth, 200 Texas Street, Fort Worth, TX 76102. | Transportation and Public Works Department, Engineering Vault, 200 Texas Street, Fort Worth, TX 76102. | https://msc.fema.gov/portal/advanceSearch. | Dec. 3, 2021 | 480596

[FR Doc. 2021-22164 Filed 10-12-21; 8:45 am]

BILLING CODE 9110-12-P